DEPARTMENT OF HOMELAND SECURITY

Federal Emergency Management Agency

[Docket ID: FEMA-2009-0001]

Agency Information Collection Activities: Submission for OMB Review; Comment Request, OMB No. 1660-0100; General Admissions Application (Long and Short) and Stipend Forms

AGENCY: Federal Emergency Management Agency, DHS.

ACTION: Notice; 30-day notice and request for comments; revision of a currently approved information collection; OMB No. 1660-0100; FEMA Forms 119-25-1 (replaces FEMA Form 75-5), General Admissions Application; 119-25-2 (replaces FEMA Form 75-5a), General Admissions Application Short-Form; 119-25-3 (replaces FEMA Form 75-3), Student Stipend Agreement; and 119-25-4 (replaces FEMA For 75-3a), Student Stipend Agreement (Amendment); FEMA Form 119-25-5 (replaces FEMA Form 95-22) National Fire Academy Executive Fire Officer Program Application Admission.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before June 4, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: General Admissions Application (Long and Short) and Stipend Forms.

Type of information collection: Revision of a currently approved information collection.

OMB Number: 1660-0100.

Form Titles and Numbers: FEMA Forms 119-25-1 (replaces FEMA Form 75-5), General Admissions Application; 119-25-2 (replaces FEMA Form 75-5a), General Admissions Application Short-Form; 119-25-3 (replaces FEMA Form 75-3), Student Stipend Agreement; and 119-25-4 (replaces FEMA For 75-3a), Student Stipend Agreement (Amendment); FEMA Form 119-25-5 (replaces FEMA Form 95-22) National Fire Academy Executive Fire Officer Program Application Admission. The form numbers have changed since publication of the 60-day Federal Register Notice at 75 FR 8386, February 24, 2010.

Abstract: FEMA personnel use the application forms to admit applicants to courses and programs offered at National Emergency Training Center (NETC), the Noble Training Facility (NTF), and various locations throughout the United States. The FEMA Form 119-25-1, General Admissions Application is the regular form and FEMA Form 119-25-2 is the short form used when FEMA personnel are not required to determine eligibility for courses and programs. FEMA Form 119-25-5 and the requested supporting documentation Letter of Intent, Resume, Letter of Recommendation, Diploma Photocopy, and Organizational Chart is used to select applicants to the Executive Fire Officer Program. FEMA Forms 119-25-3 and 119-25-4, Student Stipend Agreement and Student Stipend Agreement (Amendment), respectively, are provided to individuals who have been accepted to attend certain courses for which a stipend is paid. The 119-25-4 form is used when there is a supplemental reimbursement request for expenses that occur after arrival at the training site.

Affected Public: Individuals or households; Businesses or other for-profit; State, Local or Tribal Government; Not-for-profit institutions; Federal Government.

Estimated Number of Respondents: 109,800.

Frequency of Response: On Occasion.

Estimated Average Hour Burden per Respondent: .11 Hours.

Estimated Total Annual Burden Hours: 12,350 Hours.

Estimated Cost: There is no annual operation, maintenance, capital or start-up cost associated with this collection.

Dated: April 28, 2010.
Samuel C. Smith,
Acting Director, Records Management Division, Mission Support Bureau, Federal Emergency Management Agency, Department of Homeland Security.

[FR Doc. 2010-10529 Filed 5-4-10; 8:45 am]

BILLING CODE 9111-45-P